DEPARTMENT OF DEFENSE

Office of the Secretary

[Docket ID: DoD-2024-HA-0021]

Proposed Collection; Comment Request

AGENCY: The Office of the Assistant Secretary of Defense for Health Affairs (OASD(HA)), Department of Defense (DoD).

ACTION: 60-Day information collection notice.

SUMMARY: In compliance with the Paperwork Reduction Act of 1995, the Defense Health Agency (DHA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 17, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: Reserve Component Health Coverage Request; DD Form 2896-1; OMB Control Number 0720-RCHC.

Needs and Uses: DD Form 2896-1 is used by certain Reserve Component members and retired members to purchase or make changes to coverage under the TRICARE Reserve Select and TRICARE Retired Reserve (TRR) health plan. Eligible beneficiaries must complete this form using the online Beneficiary Web Enrollment (BWE) portal. Each respondent (eligible Reserve Component members and retired members) is required to use the BWE portal to enroll, disenroll or change their enrollment. The information collected ensures a beneficiary is eligible for TRICARE and his/her TRICARE enrollment is correctly updated to reflect their TRICARE plan of choice, address, etc. If the beneficiary does use the form or BWE portal to enroll in a TRICARE plan option, the TRICARE beneficiary is defaulted into direct care only, limiting their health care options to only military hospitals and clinics.

Affected Public: Individuals or households.

Annual Burden Hours: 61,017.5.

Number of Respondents: 122,035.

Responses per Respondent: 2.

Annual Responses: 244,070.

Average Burden per Response: 15 minutes.

Frequency: As required.

Dated: March 12, 2024.
Aaron T. Siegel,
Alternate OSD Federal Register Liaison Officer, Department of Defense.

[FR Doc. 2024-05692 Filed 3-15-24; 8:45 am]

BILLING CODE 6001-FR-P